DEPARTMENT OF TRANSPORTATION

Federal Transit Administration

Draft Environmental Impact Statement (DEIS): Kenosha-Racine-Milwaukee Commuter Rail Extension

AGENCY: Federal Transit Administration (FTA), Department of Transportation (DOT).

ACTION: Notice of intent to prepare an Environmental Impact Statement.

SUMMARY: The FTA, in cooperation with the Southeastern Wisconsin Regional Planning Commission (SEWRPC), is issuing this notice to advise the public that a Draft Environmental Impact Statement (DEIS) will be prepared for the proposed initiation of commuter rail or bus services between Kenosha, Racine and Milwaukee, Wisconsin.

The FTA is the lead Federal agency under the National Environmental Policy Act of 1969 (NEPA). The project is being conducted by SEWRPC which is acting as the manager and fiscal agent for the DEIS and associated alternatives analysis study on behalf of an Intergovernmental Partnership of the Cities and Counties of Kenosha, Milwaukee, and Racine, and the Wisconsin Department of Transportation, and SEWRPC.

The FTA and SEWRPC invite interested individuals, organizations, and Federal, State, and local agencies to participate in refining the alternatives to be evaluated and identifying any significant social, economic, and environmental issues related to the alternatives. Comments on the appropriateness of the alternatives and impact-related issues are encouraged. Specific suggestions on additional alternatives to be examined and issues to be addressed are welcomed and will be considered in the final study scope. Scoping of these alternatives and their potential impacts will be accomplished through meetings and correspondence with interested persons, organizations, and Federal, State, regional, and local agencies.

DATES: There will be three public scoping meetings held on Tuesday, February 21, 2006, Wednesday, February 22, 2006, and Thursday, February 23, 2006 and one interagency scoping meeting held on Thursday, February 23, 2006 at the locations and times identified below under ADDRESSES to ensure that all significant issues are identified and considered. SEWRPC representatives will be available for informal questions and comments throughout the duration of each scoping meeting. Subsequent opportunities for public involvement will be announced by mail and through other appropriate mechanisms, and will be conducted throughout the study area.

ADDRESSES: The public scoping meetings will be held on the following dates at the following locations and times:

• Tuesday, February 21, 2006—Kenosha Gateway Technical College, Madrigrano Auditorium, 3520 30th Avenue, Kenosha, Wisconsin from 6 p.m. to 8 p.m. Presentation at 6:45 p.m.

• Wednesday, February 22, 2006—Racine Gateway Technical College, Great Lakes Room, Racine Building, 901 Pershing Drive, Racine, Wisconsin from 6 p.m. to 8 p.m. Presentation at 6:45 p.m.

• Thursday, February 23, 2006—Milwaukee Downtown Transit Center, Harbor Lights Room, 909 E. Michigan Avenue, Milwaukee, Wisconsin from 6 p.m. to 8 p.m. Presentation at 6:45 p.m.

The interagency scoping meeting will be held at the following location and time:

• Thursday, February 23, 2006—Milwaukee Downtown Transit Center, Harbor Lights Room, 909 E. Michigan Avenue, Milwaukee, Wisconsin from 2 p.m. to 4 p.m.

The scoping meeting sites are accessible to mobility-impaired people and interpreter services will be provided for hearing-impaired people upon request. Written comments will be taken at the meeting or may be sent to Mr. Kenneth R. Yunker, Deputy Director, Southeastern Wisconsin Regional Planning Commission, P.O. Box 1607, Waukesha, Wisconsin, 53187-1607 by March 24, 2006. A scoping information packet will be available and may be requested by writing to this address or by calling (262) 547-6721.

To ensure that the full range of issues related to this proposed action are addressed and all significant issues are identified, comments and suggestions are invited from all interested parties. Comments on the scope of this proposed action and the impacts to be considered should be directed to the Southeastern Wisconsin Regional Planning Commission at the address provided above by March 24, 2006.

Information describing the proposed action and soliciting comments will be sent to appropriate Federal, State, and local agencies and to private organizations and citizens who have previously expressed, or are known to have interest in this proposal. A series of public meetings will be held in the project corridor throughout the data gathering and development of alternatives. In addition, a public hearing will be held. Public notice will be given of the time and place of additional meetings and of the hearing. The DEIS will be available for public and agency review and comment prior to the hearing. As part of the scoping process, coordination activities with other agencies have begun. Scoping meetings will be held on an individual or group meeting basis. Agency coordination will be accomplished during these meetings.

FOR FURTHER INFORMATION CONTACT: Mr. Victor M. Austin, Community Planner, Federal Transit Administration, 200 W. Adams Street, Suite 320, Chicago, Illinois, 60606-5232, telephone: (312) 886-1625. You may also contact Mr. Kenneth R. Yunker, Deputy Director, SEWRPC, P.O. Box 1607, Waukesha, Wisconsin 53187-1607; (262) 547-6721.

SUPPLEMENTARY INFORMATION: Over the past decade a very high level of interest has developed in the Kenosha-Racine-Milwaukee (KRM) corridor for improved commuter transportation service. This interest has been manifested by the creation of groups involving major employers and municipalities and counties within the corridor which have as their objective the improvement of transit service within the corridor. At the request of the local units of government, the Southeastern Wisconsin Regional Planning Commission (SEWRPC), the Metropolitan Planning Organization (MPO) for the seven-county Southeastern Wisconsin region, has completed two studies which focus on transit improvements throughout the KRM corridor.

On behalf of an intergovernmental partnership of the counties and cities of Kenosha, Racine and Milwaukee, the Wisconsin Department of Transportation (WisDOT) and SEWRPC, SEWRPC is undertaking the DEIS and Project Development phase of the KRM Alternatives Analysis in order to produce a Draft Environmental Impact Statement (DEIS), refine the previous alternatives analysis, and develop further a commuter transportation project within the corridor. This study is funded by the Federal Transit Administration (FTA) Section 5309 “New Starts” program, WisDOT, and the members of the KRM Intergovernmental Partnership. The products of this study will be used to support an application to the FTA for funding of Preliminary Engineering (PE) under the FTA's New Starts program.

I. Study Area and Project Need

The study area extends from the City of Kenosha through the City of Racine to the City of Milwaukee and is located along State Trunk Highways 31 and 32 and the Union Pacific Railroad Kenosha Subdivision, a distance of about 33 miles. The study area is bounded by Lake Michigan on the east, Interstate Highway 94 on the west, the Wisconsin-Illinois state line on the south, and the Milwaukee Central Business District on the north. The study area includes the eastern portions of Kenosha and Racine Counties and Milwaukee County.

In the KRM corridor increasing travel demand and traffic congestion are a problem and there exists a need to improve mobility within this corridor. There is a lack of transportation options for travel between the communities in the corridor, as well as for travel between the corridor and northeastern Illinois. This lack of options affects the mobility of residents and visitors and their ability to travel within the corridor. Persons with limited or no access to private automobiles are particularly limited in their options. Existing transit services do operate within the corridor, but consist largely of separate local systems with services that are slow, operate only in a limited service area, are not coordinated throughout the corridor, do not connect in a convenient manner, and provide limited service. In particular, accessibility to jobs for people within the corridor and accessibility to potential workers for employers within the corridor is affected by this lack of transportation options.

The KRM corridor is part of a larger continuous and highly urbanized corridor extending 85 miles from Milwaukee in southeastern Wisconsin to Chicago through the North Shore suburbs in Lake and Cook Counties in northeastern Illinois. There is a need for public transit connections within this corridor in southeastern Wisconsin, and between southeastern Wisconsin and northeastern Illinois, to serve the travel needs and markets that exist in this unique corridor. These needs not only include travel to and from Milwaukee, Chicago, and the two intermediate central cities of Kenosha and Racine, each with a population in excess of 50,000; but also travel to and from the older, inner-ring suburbs and the newer developing suburban communities. Specifically, there is a need to provide access to jobs not only in the Milwaukee and Chicago central business districts, but also in Racine and Kenosha, the older inner-ring and newer suburban communities in southeastern Wisconsin, and the Chicago North Shore communities in Cook and Lake Counties.

The corridor has a high potential to generate transit ridership because of its high concentrations of population, including population groups with high transit needs, significant employment, and it includes the downtown areas of three large and well established cities (Milwaukee, Racine, and Kenosha). Arterial street and highway capacity is limited, traffic volumes and congestion are a problem and will continue to grow, and opportunities for new highways are extremely limited, providing an opportunity for an attractive and high-quality transit service in the corridor to be competitive with the private automobile in terms of travel time, cost, and convenience.

There is a need to contribute to desirable economic and community development in the KRM corridor. High quality and attractive transit service that is appropriate to the travel needs of a densely developed urban corridor such as this one can help meet regional, state, and national land use objectives through influence on, and promotion of, land development and redevelopment in an efficient, desirable, and sound manner. The provision of attractive and improved transit services and facilities can help focus desirable and positive land use development and redevelopment in the older major cities such as Kenosha, Milwaukee, and Racine, in the older suburban communities such as Cudahy, St. Francis, and South Milwaukee, and in the newer developing communities such as Caledonia, Oak Creek, and Somers.

The primary goals of these transportation improvements are to:

• Improve transit mobility and access in the KRM corridor.

• Attract increased transit ridership.

• Contribute to and enhance desirable economic and community development.

II. Alternatives

The DEIS will assess the environmental impacts of a No-Build Alternative and various Build Alternatives. The Build Alternatives will include, but not be limited to a (1) Transportation System Management (TSM) Alternative, (2) a Bus Rapid Transit (BRT) Alternative, and (3) a Commuter Rail Alternative. These alternatives are briefly described below.

The No-Build Alternative will include existing transit services and facilities and those planned and programmed new transportation services, facilities, and system management improvements that are included in the 2035 Regional Transportation System Plan for Southeastern Wisconsin.

The TSM Alternative will include operational and low cost capital investments to the existing transit services in the corridor, providing a level of capital investment that is greater than the No-Build Alternative but substantially less than either the BRT or Commuter Rail Alternatives. The TSM Alternative will not include major fixed guideway improvements.

The BRT Alternative will include a significant expansion of bus service between Kenosha, Racine, and Milwaukee that will be coordinated with the existing Metra Union Pacific North Line commuter rail service between Kenosha and Chicago. It will utilize operational and performance enhancements along the entire corridor such as exclusive or semi-exclusive route alignments, on-line passenger stations, compatible vehicles appropriate for such service, and operating measures to mitigate traffic capacity and congestion constraints. One variation of this alternative will include low to medium cost capital improvements and another variation will include medium to high cost capital improvements.

The Commuter Rail Alternative will include the provision of commuter rail service between Kenosha, Racine, and Milwaukee. One variation of this alternative will include a through service combined with the existing Metra Union Pacific North Line commuter rail service between Kenosha and Chicago. Another variation of this alternative will include a separate but coordinated service requiring a cross-platform transfer to and from the Metra Union Pacific North Line commuter rail service.

In addition to these initially identified alternatives, other alternatives generated by the scoping process may be considered. The proposed action may include expansion of commuter rail or bus service in the corridor and modifications to existing transit services. It may include modifications or additions of sidings, crossovers, interlockings, signal systems, and retaining walls for potential commuter rail services and bus lanes and roadways, highway improvements, and signal systems for potential bus services. Modifications to existing stations may be required such as changes to station buildings, parking, and platform placement. Additional stations located along the potential rail and bus routes will also be investigated. Property acquisitions may be necessary to accommodate the proposed action, as well as utility relocations.

III. Potential Social and Environmental Effects

Potential social, economic, and environmental impacts will be identified and evaluated in the DEIS. Impacts may include: Mobility and accessibility; land use, zoning, and economic development, land acquisition, displacements, and relocation of existing uses; historic and archeological resources; parklands and recreational uses; visual and aesthetic qualities; neighborhoods and communities; environmental justice; air quality; noise and vibration; hazardous materials; ecosystems; water resources; energy and construction impacts; safety and security; utilities; cost and financial impacts; and transit, highway, railroad, and other transportation. Other potential impact issues may be added as a result of scoping and agency coordination efforts. The potential impact assessment and evaluation will take into account both positive and negative effects, direct and indirect impacts, short-term (construction) and long-term impacts, and cumulative effects. Measures to avoid or mitigate any significant adverse impacts will be identified.

IV. FTA Procedures

In accordance with FTA policy, all federal laws, regulations and executive orders affecting project development, including but not limited to the regulations of the Council on Environmental Quality (40 CFR parts 1500-1508 and 23 CFR part 771), the 1990 Clean Air Act Amendments, Section 404 of the Clean Water Act, Executive Order 12898 regarding environmental justice, the National Historic Preservation Act, the Endangered Species Act, and Section 4(f) of the Department of Transportation Act, will be addressed to the maximum extent possible during the NEPA process.

A DEIS will be prepared and made available for public and agency review and comment. One or more public hearings will be held on the DEIS. On the basis of the DEIS and the public and agency comments received, the preferred alternative will be further refined as necessary and the Final Environmental Impact Statement will be prepared.

Issued on: January 17, 2006.
Donald Gismondi,
Acting Regional Administrator, Federal Transit Administration, Chicago, Illinois.

[FR Doc. E6-657 Filed 1-20-06; 8:45 am]

BILLING CODE 4910-57-P